DEPARTMENT OF THE INTERIOR

Bureau of Land Management

[LLNVE02000-L5110.0000-GN.0000-LV.EM.F1503680-15X MO# 4500119719]

Notice of Availability of the Draft Environmental Impact Statement for the Rossi Mine Expansion Project, Elko County, Nevada

AGENCY: Bureau of Land Management, Interior.

ACTION: Notice of availability.

SUMMARY: In accordance with the National Environmental Policy Act of 1969 (NEPA), as amended, and the Federal Land Policy and Management Act of 1976, as amended, the Bureau of Land Management (BLM) has prepared a Draft Environmental Impact Statement (EIS) for the Rossi Mine Expansion Project. This notice announces the availability of the Draft EIS and the opening of the comment period.

DATES: To ensure that comments will be considered, the BLM must receive written comments on the Draft EIS for the Rossi Mine Expansion Project within 45 days following the date the Environmental Protection Agency publishes its Notice of Availability in the Federal Register. The BLM will announce future meetings and any other public involvement activities at least 15 days prior to the close of the comment period through public notices, media releases and/or mailings.

ADDRESSES: You may submit comments related to the Rossi Mine Expansion Project by any of the following methods:

• Email: blm_nv_eldo_rossimine_project_eis@blm.gov;

• Fax: 775-753-0347; or

• Mail: Bureau of Land Management, Rossi Mine Expansion Project, Attention: Janice Stadelman, Project Manager, 3900 Idaho Street, Elko, Nevada 89801.

Copies of the Draft EIS for the Rossi Mine Expansion Project are available at the BLM Elko District Office, located at the address above; at the BLM's NEPA eplanning website at https://go.usa.gov/xnRCr; or through eplanning on the BLM's website at http://www.blm.gov/nv.

FOR FURTHER INFORMATION CONTACT: Janice Stadelman, Project Manager, at telephone, 775-753-0346; address, 3900 Idaho Street, Elko, NV 89801; or email, blm_nv_eldo_rossimine_project_eis@blm.gov.

Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: The Draft EIS addresses the direct, indirect, and cumulative environmental impacts of the proposed action and alternatives. Halliburton Energy Services proposes a modification to their plan of operations for the Rossi Mine Project. The existing infrastructure would continue to be used, but would be expanded to support the continuation of the open pit mining operation and surface exploration activities for barite. The proposed action would increase the disturbance to a total of approximately 2,063 acres of public and private land, including 896 acres of previously approved or existing disturbance and 1,167 acres of new land disturbance. Of the 2,063 acres of surface disturbance, approximately 209 acres consists of private land and the remaining 1,854 acres are public land administered by the BLM. The proposed expansion would employ an estimated 433 people.

The proposed action includes the expansion of the existing plan of operations boundary, expansion of the existing open pits, development of new open pits, expansion of the existing waste rock disposal facilities, construction of new waste rock disposal facilities, expansion or modification of ancillary facilities, expansion and development of new roads, re-alignment of segments of the Boulder Valley Road and Antelope-Boulder Connector Road, installation of new power distribution lines, the continuation of surface exploration, and reclamation activities. The proposed expansion is projected to add eight years to the mine's life. The Project is located on the northern end of the Carlin Trend in Elko County, approximately 25 miles north of the community of Dunphy and 28 aerial miles northwest of the town of Carlin, Nevada.

The Notice of Intent to prepare an EIS was published in the Federal Register on September 9, 2015 (80 FR 54319). Scoping meetings, news release and mailings were used to solicit comments and identify key issues to be analyzed. Tribal governments with interest in this project were also contacted to discern their issues and concerns, and to conduct government-to-government consultation. During the scoping period, the BLM received 12 comment submittals (e.g., letters, emails, comment forms), resulting in a total of 131 comments and questions. Key issues identified by individuals, groups, and government entities include potential impacts to sage-grouse and wildlife, cultural resources and traditional cultural properties, access, noise, surface and ground water, air quality, and support for the project. The BLM is the lead Federal agency for this EIS. Cooperating agencies include the Nevada Department of Wildlife, the Nevada Department of Conservation and Natural Resources Sagebrush Ecosystem Technical Team, the United States Fish and Wildlife Service, the Elko County Board of Commissioners, and the United States Environmental Protection Agency.

Before including your address, phone number, email address, or other personal identifying information in your comment, you should be aware that your entire comment—including your personal identifying information- may be made publicly available at any time. While you can ask us in your comment to withhold your personal identifying information from public review, we cannot guarantee that we will be able to do so.

Authority: 40 CFR 1506.6, 40 CFR 1506.10.

Jill C. Silvey,
District Manager, Elko District Office.

[FR Doc. 2018-19940 Filed 9-13-18; 8:45 am]

BILLING CODE 4310-HC-P